OFFICE OF THE UNITED STATES TRADE REPRESENTATIVE

[Docket No. WTO/DS-277]

WTO Dispute Settlement Proceeding Regarding the United States International Trade Commission Final Determination of Threat of Material Injury in the Investigation Concerning Certain Softwood Lumber From Canada

AGENCY: Office of the United States International Trade Representative.

ACTION: Notice; request for comments.

SUMMARY: The Office of the United States International Trade Representative (“USTR”) is providing notice of the request by the Government of Canada for the establishment of a dispute settlement panel under the Marrakesh Agreement Establishing the World Trade Organization (“WTO Agreement”) to examine the International Trade Commission (“ITC”) final determination of threat of material injury with respect to certain softwood lumber from Canada.

The request for the establishment of a panel alleges that the ITC's determination is inconsistent with various provisions of the General Agreement on Tariffs and Trade 1994 (“GATT 1994”), the Agreement on Implementation of Article VI of GATT 1994 (“Anti-dumping Agreement”), and the Agreement on Subsidies and Countervailing Measures (“SCM Agreement”). USTR invites written comments from the public concerning the issues raised in this dispute.

DATES: Athough USTR will accept any comments received during the course of the dispute settlement proceedings, comments should be submitted on or before June 30, 2003 to be assured of timely consideration by USTR.

ADDRESSES: Comments should be submitted (i) electronically, to fr0062@ustr.gov, Attn: “Lumber Injury Dispute” in the subject line, or (ii) by fax, to Sandy KcKinzy at (202) 395-3640, with a confirmation copy sent electronically to the e-mail address above.

FOR FURTHER INFORMATION CONTACT: Theodore R. Posner, Assistant General Counsel, Office of the United States Trade Representative, 600 17th Street, NW., Washington, DC 20508, (202) 395-3582.

SUPPLEMENTARY INFORMATION: Pursuant to section 127(b) of the Uruguay Round Agreements Act (“URAA”) (19 U.S.C. 3537(b)(1)), USTR is providing notice that on April 3, 2003, the Government of Canada submitted a request for establishment of a dispute settlement panel to examine the U.S. International Trade Commission (“ITC”) final determination that an industry in the United States is threatened with material injury by reason of imports of softwood lumber from Canada determined by the U.S. Department of Commerce to have been subsidized and sold in the United States at less than fair value.

Major Issues Raised and Legal Basis of the Complaint

In its determination of May 16, 2002, published in the Federal Register on May 22, 2002, the ITC found that imports of softwood lumber from Canada that the U.S. Department of Commerce found to be subsidized and sold at less than fair value threatened an industry in the United States with material injury. The reasons for the ITC's determination are set forth in USITC Publication No. 3509 (May 2002).

By letter dated December 20, 2002, Canada requested consultations with the United States under the WTO Dispute Settlement Understanding regarding the ITC's determination. Consultations were held on January 22, 2003.

In its request for the establishment of a panel, Canada alleges that the United States has violated Article VI:6(a) of the GATT 1994; Articles 1, 3.1, 3.2, 3.4, 3.5, 3.7, 3.8, 12.2, 12.2.2, and 18.1 of the Anti-dumping Agreement; and Articles 10, 15.1, 15.2, 15.4, 15.5, 15.7, 15.8, 22.3, 22.5 and 32.1 of the SCM Agreement. Canada alleges that these violations stem from certain errors in the ITC's determination. In particular, Canada claims that the ITC:

1. Failed to objectively evaluate the volume of dumped and subsidized imports from Canada, their impact on prices in the United States, and their impact on the U.S. industry;

2. Failed to objectively evaluate injury or threat of injury to the U.S. industry caused by factors other than dumped and subsidized imports, and to ensure that the impact of those factors was not attributed to dumped and subsidized imports;

3. Improperly determined that increased dumped and subsidized imports were imminent and were likely to exacerbate price pressure, which would materially injure the U.S. industry;

4. Failed to properly evaluate a variety of factors that it should have evaluated in reaching a conclusion of threatened material injury;

5. Failed to accord “special care” to its determination of threatened material injury;

6. Failed to set forth sufficient detail in its report regarding its findings and conclusions, including all relevant information and all considerations relevant to its threatened material injury determination; and

7. Failed to satisfy the requirements of Article 3 of the Anti-dumping Agreement and Article 15 of the SCM Agreement.

Public Comment: Requirements for Submissions

Interested persons are invited to submit written comments concerning the issues raised in Canada's request for consultations. Persons submitting comments may either send one copy by fax to Sandy McKinzy at (202) 395-3640, or transmit a copy electronically to fr0062@ustr.gov, with “Lumber Injury Dispute” in the subject line. For documents sent by fax, USTR requests that the submitter provide a confirmation copy electronically. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly marked “BUSINESS CONFIDENTIAL” at the top and bottom of the cover page and each succeeding page of the submission.

Information or advice contained in a comment submitted, other than business confidential information, may be determined by USTR to be confidential in accordance with section 135(g)(2) of the Trade Act of 1974 (19 U.S.C. 2155(g)(2)). If the submitting person believes that information or advice may qualify as such, the submitting person—

(1) Must so designate the information or advice;

(2) Must clearly mark the material as “SUBMITTED IN CONFIDENCE” at the top and bottom of the cover page and each succeeding page of the submission; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; the U.S. submissions to the panel in the dispute, the submissions, or non-confidential summaries of submissions, to the panel received from other participants in the dispute, as well as the report of the panel; and, if applicable, the report of the Appellate Body. An appointment to review the public file may be made by calling the USTR Reading Room at (202) 395-6186. The USTR Reading Room is open to the public from 9:30 a.m. to 12 noon and 1 p.m. to 4 p.m., Monday through Friday.

Daniel E. Brinza,
Assistant United States Trade Representative for Monitoring and Enforcement.

[FR Doc. 03-12036 Filed 5-13-03; 8:45 am]

BILLING CODE 3190-01-M